DEPARTMENT OF LABOR

Employment and Training Administration

Proposed Information Collection Request; Submitted for Public Comment and Recommendations; Form ETA-232. The Domestic Agricultural In-Season Wage Report, and Form ETA-232-A, Wage Survey Interview Record

ACTION: Notice.

SUMMARY: The Department of Labor, as part of its continuing effort to reduce paperwork and respondent burden conducts a pre-clearance consultation program to provide the general public and Federal agencies with an opportunity to comment on the proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before January 27, 2004.

ADDRESSES: Send comments to John R. Beverly, III, Administrator, Office of National Programs, Employment and Training Administration, U.S. Department of Labor, Room C-4318, 200 Constitution Avenue, NW., Washington, DC 20210-0001, 202-693-3010 (this is not a toll-free number), fax 202-693-2769.

FOR FURTHER INFORMATION CONTACT: William Carlson, Chief, Division of Foreign Labor Certification, Employment and Training Administration, U.S. Department of Labor, Room C-4318, 200 Constitution Avenue, NW., Washington, DC 20210-0001, 202-693-3010 (this is not a toll-free number), fax 202-693-2769.

SUPPLEMENTARY INFORMATION:

I. Background

The Wagner-Peyser Act, as amended, provides that the Office of National Programs shall assist the State public employment services throughout the country in promoting uniformity in its administrative and statistical procedures, furnishing and publishing information as to opportunities for employment and other information of value in the operation of its system, and maintaining a system for clearing labor between the States.

Pursuant to the Wagner-Peyser Act, the U.S. Department of Labor has established regulations at 20 CFR 653.500 covering the processing of agricultural intrastate and interstate job orders. Section 563.501 provides that the wage offered by employers must not be less than the prevailing wage or the applicable Federal or State minimum wage; whichever is higher. Also, the regulations for the temporary employment of alien agricultural and logging workers in the United States, 20 CFR part 655, subparts B and C, for the H-2A program, under the Immigration Reform and Control Act of 1986, requires farmers and other agricultural employers to pay workers the adverse effect wage rate, the prevailing wage rate, or the legal Federal or State minimum wage rate; whichever is highest.

The prevailing wage rate is used to implement these regulations covering intrastate and interstate recruitment of farmworkers. The vehicle for establishing the prevailing wage rate is Form ETA-232, The Domestic Agricultural In-Season Wage Report, and Form ETA-232-A, Wage Survey Interview Record. The ETA-232 Report contains the prevailing wage finding based on survey data collected from employers and reported by the States on Form ETA-232-A.

II. Desired Focus of Comments

Currently, the Employment and Training Administration is soliciting comments concerning the proposed request to extend the expiration date of the collection request to:

*Evaluate whether the proposed collection of information is necessary for the proper performance of the functions of the agency, including whether the information will have practical utility;

*Evaluate the accuracy of the agency's estimate of the burden of the proposed collection of information, including the validity of the methodology and assumptions used;

*Enhance the quality, utility, and clarity of the information to be collected; and

*Minimize the burden of the collection of information on those who are required to respond, including through the use of appropriate automated, electronic, mechanical, or other technological collection techniques or other forms of information technology, e.g., permitting electronic submissions of responses.

A copy of the proposed information collection request (ICR) can be obtained by contacting the office listed above in the addressee section of this notice.

III. Current Actions

Activity covered by regulations at 20 CFR 653.500 and 20 CFR part 655, subparts B and C, particularly the H-2A program, continues to expand, further increasing the need for accurate and timely wage information on which to base prevailing agricultural wage determinations. There is no similar wage information which is available or can be used for these determinations which apply to a specific crop of livestock activity, in a specific agricultural wage reporting area for a specific period of time during the peak harvest season.

Type of Review: Extension.

Agency: Employment and Training Administration.

Title: Domestic Agricultural In-Season Wage Report, Form ETA-232 and Wage Survey Interview Record, Form ETA-232-A.

OMB Number: 1205-0017.

Cite/Reference/Form/etc: ETA-232 and ETA 232-A, See below.

Estimated Total Burden Hours: 16,301.

Form/activity | Total respondents | Frequency | Total responses | Average time per response (hours) | Burden (hours)
ETA-232 | 600 | Annually | 600 | 11 | 6600
ETA-232-A | 38,805 | Annually | 38,805 | ¼ | 9,701
Totals |  |  | 39,405 |  | 16,301

Total Burden Cost (capital/startup): 0.

Total Burden Cost (operating/maintaining):

Business: The salary range of representatives of business respondents (employees of small family owned farms up through large agribusiness farms) can be from the minimum wage to several hundred thousand dollars for a CEO. Therefore, the hourly salaries of individuals participating in the wage survey ranges from $5.15 to $300 or more per hour.

State Government: Average cost of the State agencies conducting the Agricultural Wage Surveys range from $1,500 to $6,000 per survey, depending upon the complexity of the crop or livestock activity to be surveyed, including considerations such as size of the employer and worker universe, and the geographic expanse of the wage reporting areas.

Comments submitted in response to this comment request will be summarized and/or included in the request for Office of Management and Budget approval of the information collection request; they will also become a matter of public record.

Dated: November 20, 2003.
Emily Stover DeRocco,
Assistant Secretary, Employment and Training Administration.

[FR Doc. 03-29665 Filed 11-26-03; 8:45 am]

BILLING CODE 4510-30-P